DEPARTMENT OF THE INTERIOR

Bureau of Land Management

[NMP010 L14300000.ET0000; NMNM 120333]

Notice of Proposed Withdrawal and Opportunity for Public Meeting; New Mexico

AGENCY: Bureau of Land Management, Interior.

ACTION: Notice.

SUMMARY: The U.S. Department of Agriculture's Forest Service has filed an application with the Bureau of Land Management (BLM) requesting the Secretary of the Interior to withdraw 15 acres of National Forest System land from mining to protect the Red Cloud Campground on the Cibola National Forest. This notice segregates the land for up to 2 years from location and entry under the United States mining laws. The land will remain open to all other uses which may, by law, be authorized on these National Forest System lands.

DATES: Comments and requests for a public meeting must be received no later than April 5, 2010.

ADDRESSES: Comments and meeting requests should be sent to the Roswell Field Office Manager, Bureau of Land Management, 2909 W. Second Street, Roswell, New Mexico 88201, and to the Forest Supervisor, Cibola National Forest, 2113 Osuna Road, NE., Suite A., Albuquerque, New Mexico 87113, or Doug Williams, Cibola National Forest, at the above address, or at (505) 346-3869.

FOR FURTHER INFORMATION CONTACT: Doug Williams, Cibola National Forest, at the above address, or at (505) 346-3869.

SUPPLEMENTARY INFORMATION: The Forest Service has filed an application with the BLM, pursuant to Section 204 of the Federal Land Policy and Management Act of 1976, 43 U.S.C. 1714, to withdraw the following described National Forest System land within the Cibola National Forest for a period of 20 years from location and entry under the United States' mining laws (30 U.S.C. 22 et seq.), subject to valid existing rights:

New Mexico Principal Meridian

Cibola National Forest

T. 1 S., R. 12 E.,

Sec. 30, NW¼SE¼NE¼SW¼, SE¼SW¼NE¼SW¼, S½SE¼NE¼SW¼ and N½NE¼SE¼SW¼.

The area described contains 15 acres in Lincoln County, New Mexico.

The purpose of the proposed withdrawal is to protect the unique recreational and historical interpretive integrity of the Red Cloud Campground, within the Cibola National Forest, and to protect a capital investment in the recreation area of approximately $750,000 in Federal funds.

The use of a right-of-way, an interagency agreement, or a cooperative agreement would not adequately constrain nondiscretionary mining locations and related uses and, therefore, would not provide adequate protection of the Federal investment in the improvements located on the land.

There are no suitable alternative sites which contain the unique cultural and associated natural ecosystem values. No additional water rights will be needed to fulfill the purpose of the requested withdrawal.

For a period of 90 days from the date of publication of this notice, all persons who wish to submit comments, suggestions, or objections in connection with the proposed withdrawal may present their views in writing, by the date specified above, to both the BLM and the Forest Supervisor, Cibola National Forest, at the addresses stated above. Records relating to the application, as well as comments, including the names and street addresses of respondents, will be available for public review at both the BLM Roswell Field Office and Forest Supervisor's Office, Cibola National Forest at the above addresses during regular business hours, 8 a.m. to 4:45 p.m., Monday through Friday, except holidays. Individual respondents may request confidentiality. Before including your address, phone number, e-mail address, or other personal identifying information in your comment, you should be aware that your entire comment—including your personal identifying information—may be made publicly available at any time. While you can ask us in your comment to withhold your personal identifying information from public review, we cannot guarantee that we will be able to do so.

Notice is hereby given that an opportunity for a public meeting is afforded in connection with the proposed withdrawal. All interested persons who desire a public meeting for the purpose of being heard on the proposed withdrawal must submit a written request, by the date specified above, to the BLM Roswell Field Office Manager, at the address stated above, within 90 days from the date of publication of this notice. Upon determination by the authorized officer that a public meeting will be held, a notice of time and place will be published in the Federal Register and in at least one newspaper having a general circulation in the vicinity of the land involved at least 30 days before the scheduled date of the meeting.

The application will be processed in accordance with the regulations set forth in 43 CFR 2300.

For a period of 2 years from the date of publication of this notice in the Federal Register, the lands will be segregated from location and entry under the United States mining laws (30 U.S.C. 22 et seq.). The segregative effect of publication of this notice shall terminate upon denial or cancellation of the subject application, approval of the application, in whole or in part, or 2 years from publication of this notice, whichever occurs first. The temporary land uses, which may be permitted during this segregative period, include leases, licenses, permits, and disposal of mineral and vegetative resources other than under the mining laws.

(Authority: 43 CFR 2310.3-1(b).

Charles Schmidt,
Roswell Field Manager.

[FR Doc. E9-31247 Filed 1-4-10; 8:45 am]

BILLING CODE 3410-11-P